DEPARTMENT OF THE INTERIOR

Fish and Wildlife Service

[FWS-R8-R-2016-N005; FXRS12610800000-167-FF08R0000]

Guadalupe-Nipomo Dunes National Wildlife Refuge, San Luis Obispo County, CA

AGENCY: Fish and Wildlife Service, Interior.

ACTION: Notice of availability: final comprehensive conservation plan.

SUMMARY: We, the U.S. Fish and Wildlife Service (Service), announce the availability of a Final Comprehensive Conservation Plan (CCP) and Finding of No Significant Impact (FONSI) for the Guadalupe-Nipomo Dunes National Wildlife Refuge. The CCP/EA, prepared under the National Wildlife Refuge System Improvement Act of 1997, and in accordance with the National Environmental Policy Act of 1969, describes how the Service proposes to manage the Refuge for the next 15 years. Compatibility determinations for three existing and proposed uses are also included with the Final CCP.

DATES: The CCP and FONSI are available now. The FONSI was signed on July 29, 2016, allowing for implementation of the CCP.

ADDRESSES: You may view or obtain copies of the final CCP and FONSI by any of the following methods. You may request a hard copy.

Agency Web site: Download a copy of the document(s) at https://www.fws.gov/refuge/Guadalupe-Nipomo_Dunes/.

Email: hoppermountain@fws.gov. Include “Guadalupe CCP” in the subject line of the message.

Fax: Attn: Michael Brady, (805) 644-1732.

U.S. Mail: Hopper Mountain National Wildlife Refuge Complex, 2493 Portola Road, Suite A, Ventura, CA 93003.

In-Person Viewing or Pickup: Copies of the Final CCP and FONSI may also be viewed at the Hopper Mountain National Wildlife Refuge Complex, 2493 Portola Road, Suite A, Ventura, CA 93003 (805-644-5185).

FOR FURTHER INFORMATION CONTACT: Winnie Chan, Refuge Planner, at (510) 792-0222, or Michael Brady, Project Leader, at (805) 644-5185 or hoppermountain@fws.gov

SUPPLEMENTARY INFORMATION:

Background

Guadalupe-Nipomo Dunes National Wildlife Refuge was established in 2000 under the Endangered Species Act of 1973 (16 U.S.C. 1537) to preserve and conserve Central California coastal dune and associated wetlands habitats and assist in the recovery of native plants and animals that are federally listed as threatened or endangered. The 2,553-acre Refuge is bordered to the west by the Pacific Ocean, lands owned by private agricultural interests to the east, Oso Flaco Lake Natural Area (a management unit of the Oceano Dunes State Vehicular Recreation Area) to the north, and Chevron Guadalupe Restoration Project (former Guadalupe Oil Fields) to the south.

We announce our decision and the availability of the FONSI for the final CCP for Guadalupe Nipomo Dunes NWR in accordance with National Environmental Policy Act (NEPA) (40 CFR 1506.6(b)) requirements. We completed a thorough analysis of impacts on the human environment, which we included in the environmental assessment (EA) that accompanied the draft CCP. This notice is in addition to our announcement of the completion of the CCP process on the refuge's Web site.

The National Wildlife Refuge System Improvement Act of 1997 (16 U.S.C. 668dd-668ee), which amended the National Wildlife Refuge System Administration Act of 1966, requires the Service to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, environmental education and interpretation. We will review and update the CCP at least every 15 years in accordance with the Improvement Act.

Our Draft CCP and EA were available for a 45-day public review and comment period, which we announced via several methods, including press releases, updates to constituents, and a Federal Register notice (81 FR 10882, March 2, 2016). The Draft CCP/EA identified and evaluated three alternatives for managing the Refuge for the next 15 years.

Under Alternative A (no action alternative), the current management actions, including habitat management, wildlife management, and public use opportunities, would be continued. Habitat and wildlife management activities would focus on wildlife surveys and invasive weed management. Guided interpretive walks would continue to be offered. Current staffing and funding would remain the same.

Alternative B includes those actions in Alternative A. In addition, we would moderately expand wildlife and habitat management while incrementally increasing visitor service and environmental education activities. Additional wildlife management activities include improving western snowy plover hatch rate by reducing invasive weeds and predation. A feral swine control and monitoring plan would be implemented to protect the western snowy plover, California least tern, California red-legged frog, La Graciosa thistle, and marsh sandwort habitat. Habitat and monitoring would be improved for the listed La Graciosa thistle, marsh sandwort, and red-legged frog. Of the National Wildlife Refuge System's priority public uses—wildlife observation, photography, interpretation, and environmental education—would all be enhanced on the Refuge. Public access through snowy plover breeding habitat to the back dunes of the Refuge would also be limited to a marked trail corridor (five-year pilot) to limit human disturbance. Refuge staff would develop a dedicated volunteer crew to support Refuge management and outreach. Additional staff and funding would be needed to implement this alternative.

Under Alternative C, we would reduce wildlife and habitat management in light of forecasted declining National Wildlife Refuge System budgets. The Refuge would also be closed to the public. Wildlife management activities would be primarily focused on monitoring of the listed species present on the Refuge: western snowy plover, La Graciosa thistle, and marsh sandwort. Like Alternative B, a feral swine control and monitoring plan would be implemented. Fencing would be installed or maintained where listed plant species are present. Due to the forecasted declining budgets, no visitor services would be provided to instead focus on wildlife and habitat.

We received 39 letters and 50 oral comments on the Draft CCP and EA during the review and comment period. We incorporated comments we received into the CCP when appropriate, and we responded to the comments in an appendix to the CCP. In the FONSI, we selected a modified Alternative A for implementation. The FONSI documents our decision and is based on the information and analysis contained in the EA.

Under the selected alternative, we would continue most current management activities, but also include components from Alternative B including implementing the feral swine control plan and developing and implementing a predator management plan to protect western snowy plover and California least tern. Public access, guided interpretive walks, and environmental education would continue to be offered.

The selected alternative provides guidance for achieving the Refuge's purpose, vision, and goals; forwards the Refuge System mission; addresses the significant issues and relevant mandates; and is consistent with principles of sound fish and wildlife management. Based on the associated environmental assessment, this alternative is not expected to result in significant environmental impacts and therefore does not require an environmental impact statement.

Alexandra Pitts,
Acting Regional Director, Pacific Southwest Region, Sacramento, California.

[FR Doc. 2016-24737 Filed 10-12-16; 8:45 am]

BILLING CODE 4333-15-P